DEPARTMENT OF ENERGY

Federal Energy Regulatory Commission

[Docket No. GT00-34-000]

Dauphin Island Gathering Partners; Notice of Proposed Change in FERC Gas Tariff

July 13, 2000.

Take notice that on July 7, 2000, Dauphin Island Gathering Partners (DIGP) tendered for filing as part of its FERC Gas Tariff, First Revised Volume No. 1, the tariff sheets listed below to become effective August 7, 2000.

First Revised Sheet No. 2

First Revised Sheet No. 3

Original Sheet No. 359

Original Sheet No. 427

DIGP states that the revised tariff sheets reflect the Commission's Regulations which state that any contract or executed service agreement that deviates in any material aspect from the form of service agreement must be filed with the Commission and such nonconforming agreement must be referenced in the pipeline's tariff.

DIGP states that copies of this filing are being served on all affected customers and applicable state regulatory agencies.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-18199 Filed 7-18-00; 8:45 am]

BILLING CODE 6717-01-M